SURFACE TRANSPORTATION BOARD

[Docket No. FD 36341]

WRL, LLC d/b/a Rainier Rail—Acquisition and Operation Exemption—City of Tacoma, Department of Public Works d/b/a Tacoma Rail

WRL, LLC (WRL) d/b/a Rainier Rail, a Class III rail carrier, has filed a verified notice of exemption under 49 CFR 1150.41 to acquire from the City of Tacoma, Department of Public Works d/b/a Tacoma Rail (Tacoma Rail), and operate approximately 4.4 miles of rail line between milepost 33C north of Rainier, Thurston County, Wash., and milepost 28.6 near McKenna, Pierce County, Wash. (the Line).¹

¹ WRL filed a verification in support of its notice of exemption on September 5, 2019.

WRL states that the Line adjoins a 34.6-mile rail line that WRL previously acquired from Tacoma Rail. See WRL, LLC—Acquis. Exemption—City of Tacoma, Dep't of Pub. Works, FD 36074 (STB served Oct. 14, 2016). WRL states that it has reached an agreement with Tacoma Rail to acquire and operate the Line upon the exemption's effective date. WRL states that the proposed acquisition of the Line does not involve any provision or agreement that would limit future interchange with a third-party connecting carrier.

WRL certifies that the proposed transaction will not result in WRL's becoming a Class II or Class I rail carrier and that the projected annual revenues of WRL will not exceed $5 million.

The transaction may be consummated on or after October 5, 2019, the effective date of the exemption (30 days after the verified notice was filed).²

² The date of WRL's verification (September 5, 2019) will be considered the filing date for the purposes of calculating the effective date of the exemption.

If the verified notice contains false or misleading information, the exemption is void ab initio. Petitions to revoke the exemption under 49 U.S.C. 10502(d) may be filed at any time. The filing of a petition to revoke will not automatically stay the effectiveness of the exemption. Petitions to stay must be filed no later than September 27, 2019 (at least seven days before the exemption becomes effective).

All pleadings, referring to Docket No. FD 36341, must be filed with the Surface Transportation Board either via e-filing or in writing addressed to 395 E Street SW, Washington, DC 20423-0001. In addition, one copy of each pleading must be served on WRL's representative, James H.M. Savage, 22 Rockingham Court, Germantown, MD 20874.

According to WRL, this action is categorically excluded from environmental review under 49 CFR 1105.6(c) and from historic reporting requirements under 49 CFR 1105.8(b).

Board decisions and notices are available at www.stb.gov.

Decided: September 16, 2019.
By the Board, Allison C. Davis, Director, Office of Proceedings.
Jeffrey Herzig,
Clearance Clerk.

[FR Doc. 2019-20351 Filed 9-19-19; 8:45 am]

BILLING CODE 4915-01-P